DEPARTMENT OF THE INTERIOR

Bureau of Land Management

[LLCAD06000.L51010000. ER0000.15X LVRWB15B5410]

Notice of Availability of the Final Environmental Impact Statement for the West of Devers Upgrade Project, Riverside and San Bernardino Counties, CA

AGENCY: Bureau of Land Management, Interior.

ACTION: Notice of Availability.

SUMMARY: In accordance with the National Environmental Policy Act of 1969, as amended, the Bureau of Land Management (BLM) has prepared a Final Environmental Impact Statement (EIS) for the West of Devers Upgrade Project and by this notice is announcing its availability.

DATES: The BLM will not issue a final decision on the proposal for a minimum of 30 days after the date that the Environmental Protection Agency publishes its Notice of Availability in the Federal Register.

ADDRESSES: Copies of the Final EIS for the Project are available for public inspection at the BLM Palm Springs-South Coast Field Office, 1201 Bird Center Drive, Palm Springs, CA 92262, and to the BLM California Desert District Office, 22835 Calle San Juan De Los Lagos, Moreno Valley, CA 92553. Interested persons may also review the Final EIS on the Internet at http://www.blm.gov/ca/st/en/fo/palmsprings/transmission/WestOfDeversProject.html.

FOR FURTHER INFORMATION CONTACT: Frank McMenimen, Project Manager, telephone 760-833-7150; address 1201 Bird Center Drive, Palm Springs, CA 92262; email fmcmenimen@blm.gov or blm_ca_west_of_devers@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Southern California Edison (SCE) proposes to upgrade and adjust the routes of the following existing 220 kV transmission lines within SCE's existing West of Devers right-of-way corridor in incorporated and unincorporated areas of Riverside and San Bernardino counties: Devers-El Casco, El Casco-San Bernardino, Devers-San Bernardino, Devers-Vista No. 1 and No. 2, Etiwanda-San Bernardino, and San Bernardino-Vista.

Of the overall 48-mile length of the transmission corridor, about 6 miles would cross Trust Lands (Reservation) of the Morongo Band of Mission Indians, and about 1 mile is on BLM-administered public lands. The BLM lands are located east of the City of Banning and west of the City of Desert Hot Springs in Riverside County, California. In addition to the transmission line improvements, substation equipment at Devers, El Casco, Etiwanda, San Bernardino, Timoteo and Tennessee and Vista Substations would be upgraded to accommodate the project changes to transmission and subtransmission systems. Construction of the Project would facilitate the full deliverability of new renewable energy generation resources now being developed in eastern Riverside County, including the BLM's Riverside East Solar Energy Zone, into the Los Angeles area.

As a result, the Project would facilitate progress towards meeting California's Renewable Portfolio Standard goals, which now require utilities to produce 50 percent of their electricity sales from renewable energy sources by 2030, as well as President Obama's Climate Action Plan, which directs the Department of the Interior to approve at least 20,000 megawatts of renewable energy capacity on public lands by 2020. Utility-scale solar energy development in eastern Riverside County plays an important role in meeting California's renewable energy goals, allowing for immediate and sizeable deployment, driving costs down and taking advantage of the State's best renewable energy resources. Additionally, these upgrades are required to comply with transmission reliability standards and will support integration of small scale electricity generation.

In addition to the Proposed Action, the Final EIS considers three project alternatives and a No Action Alternative, as well as connected actions enabled by the project. The first alternative, the Tower Relocation Alternative, moves some proposed towers away from residences. The second alternative, the Iowa Street 66 kV Underground Alternative, would place a small portion of the subtransmission line underground. The third alternative, the Phased Build Alternative, would retain some of the existing towers, use a different conductor type, and have smaller capacity than the proposed Project.

The Final EIS evaluates the potential impacts of the project and alternatives on air quality, biological resources, cultural resources, water resources, geological resources and hazards, land use, noise, paleontological resources, public health, socioeconomics, soils, traffic and transportation, visual resources, wilderness characteristics, and other resources. Mitigation measures are included to conserve priority habitat in the region, including requirements to restore, compensate, and minimize native vegetation and habitat loss; not allow for a net loss for jurisdictional waters and wetlands; and ensure compliance with two regional Multiple Species Habitat Conservation Plans.

In accordance with Department of the Interior regulations (43 CFR 46.425), the BLM identified a preferred alternative in the Final EIS based on feedback on the Draft Joint Environmental Impact Report (EIR)/EIS from the public and cooperating agencies. The BLM preferred alternative is the Proposed Action with incorporation of the Tower Relocation Alternative and the Iowa Street 66 kV Underground Alternative.

The BLM will prepare a Record of Decision (ROD) for the proposed project after a 30-day period following publication of the NOA.

Comments on the Draft Joint EIR/EIS received from the public and internal BLM review were considered and incorporated as appropriate into the Final EIS. Public comments resulted in the addition of clarifying text, but did not significantly change the analysis or conclusions presented in the Draft EIR/EIS.

Authority: 40 CFR 1506.6, 40 CFR 1506.10.

Thomas Pogacnik,
Deputy State Director.

[FR Doc. 2016-18992 Filed 8-9-16; 8:45 am]

BILLING CODE 4310-40-P